DEPARTMENT OF ENERGY

Federal Energy Regulatory Commission

Notice of Recreation Plan Amendment and Soliciting Motions To Intervene, Protests, and Comments

December 3, 2002.

Take notice that the following hydroelectric application has been filed with the Commission and is available for public inspection:

a. Type of Application: Amendment of Recreation Plan.

b. Project No.: P-2113-148.

c. Date filed: October 4, 2002.

d. Applicant: Wisconsin Valley Improvement Company.

e. Name and Location of Project: This amendment will affect project lands on the shores of the Rice development, located on the Tomahawk River in Lincoln and Oneida Counties, Wisconsin. The Rice reservoir is composed of three lakes: Nokomis Lake, Bridge Lake, and Deer Lake. The project utilizes U.S. Forest Service lands within the Nicolet and Ottawa National Forests and lands of the Lac Vieux Desert Bank of Lake Superior Chippewa Indians. This project does not include any hydroelectric generating facilities.

f. Filed Pursuant to: Federal Power Act, 16 U.S.C. 791(a)—825(r).

g. Applicant Contact: Mr. Robert Gall, President, Wisconsin Valley Improvement Company, 2301 North Third Street, Wausau, Wisconsin.

h. FERC Contact: Elizabeth Jones (202) 502-8246.

i. Deadline for filing comments, protests, and motions to intervene: January 3, 2003.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-2113-148) on any comments or motions filed.

The Commission's Rules of Practice and Procedure require all interveners filing documents with the Commission to serve a copy of that document on each person in the official service list for the project. Further, if an intervener files comments or documents with the Commission relating to the merits of an issue that may affect the responsibilities of a particular resource agency, they must also serve a copy of the document on that resource agency.

j. Description of Amendment: The proposed amendment would (1) remove the requirement to development Site 2 in 2002 from the Recreation Plan, close vehicle access to Site 2 for erosion control and public safety reasons and retain it in the Recreation Plan for possible future development; (2) Reinstate Site 7 in the Recreation Plan for development in 2004; (3) Close Site 1 for public safety reasons when Site 7 opens.

k. This filing is available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov . For TTY, call (202) 502-8659. A copy is also available for inspection and reproduction at Holbrook Hydro, LLC, 975 South State Highway, Logan, UT 84321, (435) 752-2580.

l. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

m. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

n. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-31090 Filed 12-6-02; 8:45 am]

BILLING CODE 6717-01-P